DEPARTMENT OF THE INTERIOR

Bureau of Reclamation

Adjustment of the Amount of an Administrative Costs Assessment

AGENCY: Bureau of Reclamation, Interior.

ACTION: Notice.

SUMMARY: The Bureau of Reclamation (Reclamation, we, our, or us) is decreasing the amount of the administrative costs assessment set forth in the Acreage Limitation Rules and Regulations (Regulations), 43 CFR part 426. Based on our latest required review, the current $290 administrative costs assessment is being decreased to $230.

DATES: The decrease in the amount of the administrative costs assessment to $230 becomes effective on January 1, 2012. See the last paragraph in the SUPPLEMENTARY INFORMATION section for more details regarding application of the new amount.

FOR FURTHER INFORMATION CONTACT: Bureau of Reclamation, Policy and Administration, Attention: 84-53000, P.O. Box 25007, Denver, Colorado 80225.

SUPPLEMENTARY INFORMATION: Section 426.20 of the Regulations provides that we will assess districts administrative costs if: (1) A district delivers Reclamation irrigation water to land that was ineligible because a landholder did not submit Reclamation Reform Act of 1982 certification or reporting forms to the district prior to receipt of the Reclamation irrigation water, (2) a district does not provide us with corrected landholder certification or reporting forms within 60 calendar days of our request for corrections, or (3) a district delivers Reclamation irrigation water to ineligible excess land. Section 426.20(e) sets the original amount of the administrative cost assessment at $260. The amount is based on the additional costs we incur to perform activities to address the problems described in the first sentence of this paragraph. Section 426.20(e) further provides that we will review the associated costs at least once every 5 years and adjust the assessment amount, if needed, to reflect new cost data.

The regulatory provisions for the administrative costs assessment became effective on March 27, 1995. Previous regular reviews of the administrative cost assessment resulted in the amount remaining the same, or increasing (once, from $260 to $290). This year, the regular review of cost data for 2006-2010 shows the administrative cost assessment needs to be adjusted from $290 to $230. The next regular review of cost data will take place in 2016, evaluating the cost data for 2011-2015.

The new amount of the administrative costs assessment becomes effective on January 1, 2012. However, application will be based on the date Reclamation actually finds and documents the forms or excess land problem in question. Specifically, if after January 1, 2012, we find a forms or excess land problem described in 43 CFR 426.20, the amount of the administrative costs assessment will be $230. This will be the case even if the problem occurred prior to January 1, 2012. For problems we find prior to January 1, 2012, the amount of the administrative costs assessment will remain at $290.

Roseann Gonzales,
Director, Policy and Administration, Denver Office.

[FR Doc. 2011-30880 Filed 11-30-11; 8:45 am]

BILLING CODE 4310-MN-P